DEPARTMENT OF DEFENSE

Department of the Air Force

Notice of Availability of Software and Documentation for Licensing

AGENCY: Department of the Air Force, Department of Defense.

ACTION: Availability of VIGILANT SPIRIT Software and Documentation for Licensing.

SUMMARY: The Department of the Air Force announces the availability of VIGILANT SPIRIT software and related documentation that enables flexible operator teaming arrangements, including single operator control, of multiple heterogeneous Unmanned Air Vehicles (“UAVs”).

ADDRESSES: Licensing interests should be sent to: Office of Research and Technology Applications, 711 HPW/XPO, 2610 Seventh Street, Wright Patterson AFB, OH 45433; Facsimile: (937) 656-7959.

FOR FURTHER INFORMATION CONTACT: Office of Research and Technology Applications, 711 HPW/XPO, 2610 Seventh Street, Wright Patterson AFB, OH 45433; Facsimile: (937) 656-7959; or Dr. James D. Kearns, (937) 255-3765.

SUPPLEMENTARY INFORMATION: The VIGILANT SPIRIT (“VS”) software suite includes the VS Control Station (“VSCS”), VS Simulation (“VS Sim”), and various support tools and documentation. The VS applications are built on an extensible software framework to facilitate ease of integration with new Unmanned Air Systems (“UAS”) and associated payloads. VS has the unique attribute of being designed, ab initio, with the idea of enabling a single operator to control multiple UAS in certain situations. Organizations involved with UAS operations, development, testing, and training could benefit from the use of VS. The VS software suite has been utilized in thousands of hours of simulation and hundreds of hours of live flight tests across a variety of Air Force and NASA projects.

This notice is pursuant to the provisions of Section 801 of Public Law 113-66 (2014 National Defense Authorization Act).

Henry Williams,
Acting Air Force Federal Register Liaison Officer.

[FR Doc. 2018-20943 Filed 9-25-18; 8:45 am]

BILLING CODE 5001-10-P